DEPARTMENT OF HEALTH AND HUMAN SERVICES

Administration for Children and Families

Submission for Office of Management and Budget Review; State Plan for Child Support Collection and Establishment of Paternity Title IV-D of the Social Security Act

AGENCY: Office of Child Support Services, Administration for Children and Families, Department of Health and Human Services.

ACTION: Request for public comments.

SUMMARY: The Office of Child Support Services (OCSS) is requesting review by the Office of Management and Budget (OMB) of revisions to the State Plan for Child Support Collection and Establishment of Paternity Under Title IV-D of the Social Security Act (State Plan; OMB # 0970-0017). These revisions are necessary to align this collection with updates resulting from a final rule: Employment and Training Services for Noncustodial Parents in the Child Support Program which will require states to amend State Plans if they elect to participate in employment and training services for non-custodial parents in the child support program.

DATES: Comments due January 30, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: On May 31, 2024, OCSS published an NPRM (89 Federal Register (FR) 47109; Regulation Identification Number (RIN) 0970-AD00) proposing to allow Federal financial participation (FFP) for certain optional and nonduplicative employment and training services for eligible noncustodial parents in the child support program. The proposed rule will permit states, at their discretion, to use FFP to provide any or all the following services: Job search assistance; job readiness training; job development and job placement services; skills assessments; job retention services; work supports; and occupational training and other skills training directly related to employment.

On December 13, 2024, OCSS published the Employment and Training Services for Noncustodial Parents in the Child Support Program final rule (89 FR 100789; RIN 0970-AD00). This rule results in revisions to this information collection, as states that elect to participate in Employment and Training Services for Non-Custodial Parents in the Child Support Program must submit a state plan amendment to OCSS. To account for states potentially submitting revisions to their State Plans and as required by the Paperwork Reduction Act (PRA) of 1995, we are submitting the revised data collection to OMB for review and approval. States can elect to participate in these services on page 2.12-15 of the State Plan. OCSS is updating the burden estimates to account for potential additional amendments as a result of this rule.

Additionally, the full State Plan has not historically been submitted under this OMB number and this request adds the full document to the materials for review and approval.

Respondents: State IV-D Agencies.

Annual Burden Estimates

We estimate states will take 3 hours to draft the required information to amend their State Plan. We estimate about 33 states will submit amendments.

Instrument | Total number of respondents | Total number of responses per respondent | Average burden hours per response | Total burden hours | Annual burden hours
State Plan and State Plan Cover Page (OCSS-100) | 54 | 36 | .5 | 972 | 324
State Plan Transmittal (OCSS-21-U4) | 54 | 36 | .25 | 486 | 162
Amendments Specific to the Employment and Training Services for Non-Custodial Parents in the Child Support Program | 33 | 1 | 3 | 99 | 33
Estimated Total Annual Burden Hours |  |  |  |  | 519

Authority: 42 U.S.C 652, 654, and 666.

Mary C. Jones,
ACF/OPRE Certifying Officer.

[FR Doc. 2024-31185 Filed 12-30-24; 8:45 am]

BILLING CODE 4184-41-P